SECURITIES AND EXCHANGE COMMISSION

[Release No. 34-45138; File No. SR-NYSE-2001-42]

Self-Regulatory Organizations; Order Approving a Proposed Rule Change by the New York Stock Exchange, Inc., Establishing the Fees for NYSE OpenBook™

December 18, 2001.

Correction

In FR Document 01-30879 beginning on page 64895 for Friday, December 14, 2001, the release number for File No. SR-NYSE-2001-42 should read 34-45138.

For the Commission, by the Division of Market Regulation, pursuant to the delegated authority.¹
¹ 17 CFR 200.30-3(a)(12).
Margaret H. McFarland,
Deputy Secretary.

[FR Doc. 01-31566 Filed 12-21-01; 8:45 am]

BILLING CODE 8010-01-M